ENVIRONMENTAL PROTECTION AGENCY

40 CFR Part 81

[Docket OR-01-005b; FRL-7018-7]

Finding of Attainment for PM-10; Oakridge, Oregon, PM-10 Nonattainment Area

AGENCY: Environmental Protection Agency (EPA).

ACTION: Proposed rule.

SUMMARY: EPA is proposing to determine that the Oakridge nonattainment area in Oregon has attained the National Ambient Air Quality Standard (NAAQS) for particulate matter with an aerodynamic diameter of less than, or equal to a nominal ten micrometers (PM-10) as of December 31, 1999.

In the Final Rules section of this Federal Register, the EPA is publishing its determination as a direct final rule without prior proposal because the Agency views this as a noncontroversial determination and anticipates no adverse comments. A detailed rationale for the approval is set forth in the direct final rule. If no adverse comments are received in response to this action, no further activity is contemplated.

If the EPA receives adverse comments, the direct final rule will be withdrawn and all public comments received will be addressed in a subsequent final rule based on this proposed rule. The EPA will not institute a second comment period. Any parties interested in commenting on this action should do so at this time.

DATES: Written comments must be received on or before August 27, 2001.

ADDRESSES: Written comments should be addressed to, Steven K. Body, (OAQ-107), Office of Air Quality, at the EPA Regional Office listed below.

Copies of air quaity data and other relevent information supporting this action are available for inspection during normal business hours at the following location: EPA, Office of Air Quality (OAQ-107), 1200 Sixth Avenue, Seattle, Washington 98101.

FOR FURTHER INFORMATION CONTACT: Steven K. Body, EPA, Office of Air Quality (OAQ-107), Seattle, Washington, (206) 553-0782.

SUPPLEMENTARY INFORMATION: For additional information, see the Direct Final rule which is located in the Rules section of this Federal Register.

Dated: July 16, 2001.
Ronald A. Kreizenbeck,
Acting Regional Administrator, Region 10.

[FR Doc. 01-18649 Filed 7-25-01; 8:45 am]

BILLING CODE 6560-50-P